INTERNATIONAL TRADE COMMISSION

[Investigation No. 731-TA-1070B (Third Review)]

Certain Tissue Paper Products From China

Determination

On the basis of the record ¹ developed in the subject five-year review, the United States International Trade Commission (“Commission”) determines, pursuant to the Tariff Act of 1930 (“the Act”), that revocation of the antidumping duty order on certain tissue paper products from China would be likely to lead to continuation or recurrence of material injury to an industry in the United States within a reasonably foreseeable time.

¹ The record is defined in § 207.2(f) of the Commission's Rules of Practice and Procedure (19 CFR 207.2(f)).

Background

The Commission instituted this review on June 1, 2021 (86 FR 29289) and determined on September 7, 2021 that it would conduct an expedited review (86 FR 54238, September 30, 2021).

The Commission made this determination pursuant to section 751(c) of the Act (19 U.S.C. 1675(c)). It completed and filed its determination in this review on November 4, 2021. The views of the Commission are contained in USITC Publication 5236 (November 2021), entitled Certain Tissue Paper Products from China: Investigation No. 731-TA-1070B (Third Review).

By order of the Commission.
Issued: November 18, 2021.
Katherine Hiner,
Supervisory Attorney.

[FR Doc. 2021-25196 Filed 11-17-21; 8:45 am]

BILLING CODE 7020-02-P